DEPARTMENT OF DEFENSE

Office of the Secretary

Establishment of Department of Defense Federal Advisory Committee

AGENCY: Office of the Secretary, Department of Defense.

ACTION: Establishment of non-discretionary Federal Advisory Committee.

SUMMARY: The Department of Defense (DoD) is publishing this notice to announce that it is establishing the Table Rock Lake Oversight Committee (“the TRLOC”).

FOR FURTHER INFORMATION CONTACT: Jim Freeman, Advisory Committee Management Officer for the Department of Defense, 703-692-5952.

SUPPLEMENTARY INFORMATION: The TRLOC's charter is being established pursuant to section 1185(c) of the Water Infrastructure Improvements for the Nation Act (“the 2016 WIIN Act”) (Pub. L. 114-322), and in accordance with the Federal Advisory Committee Act (FACA) of 1972 (5 U.S.C., Appendix) and 41 CFR 102-3.50(a).

The TRLOC provides independent advice and recommendations to the Secretary of Defense, through the Secretary of the Army, regarding all permits to be issued under the existing Table Rock Lake Master Plan at the recommendation of the District Engineer, Little Rock District, U.S. Army Corps of Engineers, and advise the District Engineer on revisions to the Table Rock Lake Master Plan and Table Rock Shoreline Management Plan, in accordance with section 1185(c)(2) of the 2016 WIIN Act.

Members of the TRLOC who are not full-time or permanent part-time Federal officers, employees, or members of the Armed Forces will be appointed as experts or consultants, pursuant to 5 U.S.C. 3109, to serve as special government employee members. Members who are full-time or permanent part-time Federal officers, employees, or members of the Armed Forces shall be appointed pursuant to 41 CFR 102-3.130(a) to serve as regular government employees.

Individual members will be appointed according to DoD policy and procedures, and members will serve a two-year term of service with annual renewal. All members of the TRLOC are appointed to provide advice on the basis of their best judgment without representing any particular point of view and in a manner that is free from conflict of interest.

One member, according to DoD policy and procedures, will be appointed as Chair of the TRLOC. No member, unless approved according to DoD policy and procedures, may serve more than two consecutive terms of service on the TRLOC or serve on more than two DoD federal advisory committees at the same time. Except for reimbursement of official TRLOC-related travel and per diem, members serve without compensation.

The public or interested organizations may submit written statements to the TRLOC membership about the TRLOC's mission and functions. Written statements may be submitted at any time or in response to the stated agenda of planned meeting of the TRLOC. All written statements should be submitted to the Designated Federal Officer (“DFO”) for the TRLOC, and this individual will ensure that the written statements are provided to the membership for their consideration. The charter and contact information for the TRLOC's DFO can be found at https://www.facadatabase.gov/FACA/apex/FACAPublicAgencyNavigation.

Dated: July 11, 2019.
Aaron T. Siegel,
Alternate OSD Federal Register Liaison Officer, Department of Defense.

[FR Doc. 2019-15129 Filed 7-16-19; 8:45 am]

BILLING CODE 5001-06-P